COMMITTEE FOR PURCHASE FROM PEOPLE WHO ARE BLIND OR SEVERELY DISABLED

Procurement List; Proposed Additions and Deletion

AGENCY: Committee for Purchase From People Who Are Blind or Severely Disabled.

ACTION: Proposed Additions to and Deletion from the Procurement List.

SUMMARY: The Committee is proposing to add services to the Procurement List that will be provided by nonprofit agencies employing persons who are blind or have other severe disabilities, and deletes a service previously provided by such agency.

Comments Must Be Received On Or Before: 8/25/2014.

ADDRESSES: Committee for Purchase From People Who Are Blind or Severely Disabled, 1401 S. Clark Street, Suite 10800, Arlington, Virginia 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 USC 8503(a)(2) and 41 CFR 51-2.3. Its purpose is to provide interested persons an opportunity to submit comments on the proposed actions.

Additions

If the Committee approves the proposed additions, the entities of the Federal Government identified in this notice will be required to procure the services listed below from nonprofit agencies employing persons who are blind or have other severe disabilities.

The following services are proposed for addition to the Procurement List for production by the nonprofit agencies listed:

Services

Service Type/Location: Assembly, Kitting, Warehousing and Fulfillment Service National Park Service, Interpretation and Education Division 1849 C Street NW., Washington, DC

NPA: Industries for the Blind, Inc., West Allis, WI

Contracting Activity: Dept of the Interior, National Park Service, NCR Regional Contracting, Washington, DC

Service Type/Location: Custodial Service, FAA, Merrill Field Air Traffic Control Tower, 1950 East Fifth Avenue, Anchorage, AK

NPA: M. C. Resource Management, Anchorage, AK

Contracting Activity: Dept of Transportation, Federal Aviation Administration, Renton, WA

Deletion

The following service is proposed for deletion from the Procurement List:

Service:

Service Type/Location: Janitorial/Custodial, U.S. Army Reserve Center, 1001 W. DeYoung Street, Marion, IL

NPA: The H Group, B.B.T. Inc., West Frankfurt, IL

Contracting Activity: Dept of the Army, W6QM MICC-ARCC NORTH, Fort McCoy, WI

Patricia Briscoe,
Deputy Director, Business Operations, Pricing and Information Management.

[FR Doc. 2014-17567 Filed 7-24-14; 8:45 am]

BILLING CODE 6353-01-P